CORPORATION FOR NATIONAL AND COMMUNITY SERVICE

Sunshine Act Notice

The Board of Directors of the Corporation for National and Community Service gives notice of the following meeting:

Date and Time: Tuesday, February 8, 2005, 10 a.m.-12 p.m.

Place: Corporation for National and Community Service, 1201 New York Avenue, NW., 8th Floor, Room 8410, Washington, DC 20525.

Status: Open.

Matters to be Considered:

I. Chair's Opening Remarks

II. Administration of Oath of Office for Board Members

III. Consideration of Prior Meeting's Minutes

IV. Chief Executive Officer's Report

V. Committee Reports

VI. Public Comment. To help in developing a five-year strategic plan, the Board of Directors is particularly interested in any comments from the public concerning the future goals and strategies for the Corporation over the next five years.

VII. Adjourn

Accommodations: Anyone who needs an interpreter or other accommodation should notify the Corporation's contact person by 5 p.m. Friday, February 4, 2005.

FOR FURTHER INFORMATION CONTACT: David Premo, Public Affairs Associate, Public Affairs, Corporation for National and Community Service, 8th Floor, Room 8612C, 1201 New York Avenue NW., Washington, DC 20525. Phone (202) 606-5000 ext. 278. Fax (202) 565-2784. TDD: (202) 565-2799. E-mail: dpremo@cns.gov.

Dated: January 26, 2005.
Frank R. Trinity,
General Counsel.

[FR Doc. 05-1847 Filed 1-27-05; 1:53 pm]

BILLING CODE 6050-$$-P